SMALL BUSINESS ADMINISTRATION

[Disaster Declaration #17569 and #17570; MINNESOTA Disaster Number MN-00100]

Presidential Declaration of a Major Disaster for Public Assistance Only for the State of Minnesota

AGENCY: Small Business Administration.

ACTION: Notice.

SUMMARY: This is a Notice of the Presidential declaration of a major disaster for Public Assistance Only for the State of Minnesota (FEMA-4666-DR), dated 08/09/2022.

Incident: Severe Storms, Straight-line Winds, Tornadoes, and Flooding.

Incident Period: 05/29/2022 through 05/30/2022.

DATES: Issued on 08/09/2022.

Physical Loan Application Deadline Date: 10/10/2022.

Economic Injury (EIDL) Loan Application Deadline Date: 05/09/2023.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 08/09/2022, Private Non-Profit organizations that provide essential services of a governmental nature may file disaster loan applications at the address listed above or other locally announced locations.

The following areas have been determined to be adversely affected by the disaster:

Primary Counties: Aitkin, Big Stone, Cass, Chippewa, Crow Wing, Douglas, Grant, Itasca, Kanabec, Kandiyohi, Lac Qui Parle, Lyon, Nobles, Pine, Pope, Renville, Rock, Stevens, Swift, Todd, Traverse, Wadena, Yellow Medicine.

The Interest Rates are:

| Percent
For Physical Damage:
Non-Profit Organizations With Credit Available Elsewhere | 1.875
Non-Profit Organizations Without Credit Available Elsewhere | 1.875
For Economic Injury:
Non-Profit Organizations Without Credit Available Elsewhere | 1.875

The number assigned to this disaster for physical damage is 17569 B and for economic injury is 17570 0.

(Catalog of Federal Domestic Assistance Number 59008)

Rafaela Monchek,
Acting Associate Administrator for Disaster Assistance.

[FR Doc. 2022-18666 Filed 8-29-22; 8:45 am]

BILLING CODE 8026-09-P